DEPARTMENT OF COMMERCE

National Oceanic and Atmospheric Administration

RIN 0648-XB139

Marine Mammals; File No. 17178

AGENCY: National Marine Fisheries Service (NMFS), National Oceanic and Atmospheric Administration (NOAA), Commerce.

ACTION: Notice; receipt of application.

SUMMARY: Notice is hereby given that Virginia Institute of Marine Science [Responsible Party: Elizabeth Canuel, Ph.D.], P.O. Box 1346, Route 1208 Greate Road, Gloucester Point, VA 23062, has applied in due form for a permit to import marine mammal parts for scientific research.

DATES: Written, telefaxed, or email comments must be received on or before May 2, 2012.

ADDRESSES: The application and related documents are available for review by selecting “Records Open for Public Comment” from the Features box on the Applications and Permits for Protected Species (APPS) home page, https://apps.nmfs.noaa.gov, and then selecting File No. 17178 from the list of available applications.

These documents are also available upon written request or by appointment in the following offices:

Permits and Conservation Division, Office of Protected Resources, NMFS, 1315 East-West Highway, Room 13705, Silver Spring, MD 20910; phone (301)427-8401; fax (301)713-0376;

Southwest Region, NMFS, 501 West Ocean Blvd., Suite 4200, Long Beach, CA 90802-4213; phone (562)980-4001; fax (562)980-4018; and

Southeast Region, NMFS, 263 13th Avenue South, Saint Petersburg, Florida 33701; phone (727)824-5312; fax (727)824-5309.

Written comments on this application should be submitted to the Chief, Permits and Conservation Division, at the address listed above. Comments may also be submitted by facsimile to (301)713-0376, or by email to NMFS.Pr1Comments@noaa.gov. Please include File No. 17178 in the subject line of the email comment.

Those individuals requesting a public hearing should submit a written request to the Chief, Permits and Conservation Division at the address listed above. The request should set forth the specific reasons why a hearing on this application would be appropriate.

FOR FURTHER INFORMATION CONTACT: Laura Morse or Amy Sloan, (301)427-8401.

SUPPLEMENTARY INFORMATION: The subject permit is requested under the authority of the Marine Mammal Protection Act of 1972, as amended (MMPA; 16 U.S.C. 1361 et seq.), and the regulations governing the taking and importing of marine mammals (50 CFR part 216).

The objective of the proposed research is to use chemical signals to provide insight into the dietary preferences and feeding ecology of Antarctic marine mammals by analyzing seal and whale samples for persistent organic pollutants, mercury, and stable isotopes. The following archived samples will be imported from the Swedish Museum of Natural History: fur, blood, and fat biopsies from up to 300 crabeater seals (Lobodon carcinophaga), 200 Weddell seals (Leptonychotes weddellii), 50 Ross seals (Ommatophoca Rossii), and 25 leopard seals (Hydrurga leptonyx) that were collected in Antarctica in 1987-1988, 2008-2009, and 2010-2011. The requested duration of the import permit is 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 27, 2012.
Tammy C. Adams,
Acting Chief, Permits and Conservation Division, Office of Protected Resources, National Marine Fisheries Service.

[FR Doc. 2012-7869 Filed 3-30-12; 8:45 am]

BILLING CODE 3510-22-P